DEPARTMENT OF AGRICULTURE

Rural Utilities Service

Bemidji to Grand Rapids Minnesota 230 kV Transmission Line Project

AGENCY: Rural Utilities Service, USDA.

ACTION: Notice of Availability of Final Environmental Impact Statement.

SUMMARY: The Rural Utilities Service (RUS), U.S. Forest Service Chippewa National Forest (CNF), U.S. Army Corps of Engineers (USACE) and Leech Lake Band of Ojibwe Division of Resource Management (LLBO) have issued a Final Environmental Impact Statement (EIS) for the proposed Bemidji to Grand Rapids, Minnesota 230 kV Transmission Line Project (“Project”) in Minnesota. The Final EIS was prepared pursuant to the National Environmental Policy Act of 1969 (NEPA) (U.S.C. 4231 et seq.) in accordance with the Council on Environmental Quality's (CEQ) regulations for implementing the procedural provisions of NEPA (40 CFR 1500-1508), and RUS regulations (7 CFR 1794). To minimize duplication of effort pursuant to 40 CFR 1506.2, RUS prepared the Final EIS jointly with the Minnesota Department of Commerce, Office of Energy Security (OES) in compliance with federal responsibilities under NEPA and other federal statutes and regulations, and state responsibilities under the Minnesota Environmental Policy Act and the Minnesota Power Plant Siting Act. RUS is the lead federal agency as defined at 40 CFR 1501.5, and CNF and USACE are cooperating agencies. LLBO accepted an invitation to participate as a cooperating agency. The purpose of the Final EIS is to evaluate the potential environmental impacts of and alternatives to the application of Minnkota Power Cooperative, Inc. for RUS financing to construct a 230 kilovolt (kV) transmission line between the Wilton Substation near Bemidji, Minnesota and the Boswell Substation near Grand Rapids, Minnesota, which will cross portions of Beltrami, Hubbard, Itasca, and Cass counties. Minnkota also proposes to modify the Wilton and Boswell substations and construct a new 115 kV breaker station at Nary Junction, Minnesota. In addition, Minnkota proposes to upgrade an existing or construct a new substation in the Cass Lake, Minnesota area, depending on the route alternative selected for the Project. The Project is being jointly developed by Minnkota, Otter Tail Power Company, and Minnesota Power.

DATES: Written comments on this Final EIS will be accepted 30 days following the publication of the U.S. Environmental Protection Agency's notice of receipt of the Final EIS in the Federal Register.

ADDRESSES: To obtain copies of the Final EIS or further information, contact: Ms. Stephanie Strength, Environmental Protection Specialist, USDA Rural Utilities Service, Independence Avenue, SW., Stop 1571, Room 2239-S, Washington, DC 20250-1571, telephone: (970) 403-3559, fax: (202) 690-0649, or e-mail: stephanie.strength@wdc.usda.gov. Or contact Suzanne Steinhauer, Project Manager, Minnesota Department of Commerce, Office of Energy Security, 85 Seventh Place East, Suite 500, Saint Paul, Minnesota 55101-2198; telephone (651) 296-2888, or e-mail suzanne.steinhauer@state.mn.us.

A copy of the Final EIS has been sent to affected Federal, State, and local government agencies and to interested parties and can be viewed online at the RUS Web site at http://www.usda.gov/rus/water/ees/eis.htm, or at the Minnesota Public Utilities Web site at http://energyfacilities.puc.state.mn.us/Docket.html?Id=19344.

Copies of the Final EIS will also be available for public review at the following public libraries:

Bemidji Public Library, 509 America Ave., NW., Bemidji, MN 56601;

Cass Lake Community Library, 223 Cedar Ave., NW., Cass Lake, MN 56633;

Grand Rapids Area Library, 140 NE 2nd Street, Grand Rapids, MN 55744;

Blackduck Community Library, 72 First St., SE., Blackduck, MN 56630;

Margaret Welch Memorial Library, 5051 State 84, Longville, MN 56655;

Walker Public Library, 207 4th St., Walker, MN 56484;

Bovey Public Library, Village Hall, 402 2nd Street, Bovey, MN 55709-0130; and

Coleraine Public Library, Independent Building, 203 Cole Avenue, Coleraine, MN 55722-0225.

SUPPLEMENTARY INFORMATION: Minnkota Power, Otter Tail Power, and Minnesota Power propose to construct a new transmission line from Bemidji to Grand Rapids, Minnesota. The proposal is designed to correct a local load serving inadequacy for the Bemidji area and the northern Red River Valley in West Central Minnesota. It is part of the CapX2020 long-range planning effort that has identified a comprehensive framework for new transmission infrastructure that will be needed to maintain reliability of the transmission system throughout Minnesota and the surrounding region.

Minnkota Power is seeking financing from RUS for its portion of the investment. Prior to making a financial decision about whether to provide financial assistance for a proposal, RUS is required to conduct an environmental review under NEPA in accordance with the Agency's policies and procedures codified in 7 CFR Part 1794.

This proposal is identified under RUS regulation 7 CFR 1794.24(b)(1) as requiring an Environmental Assessment (EA) with scoping meetings. The State of Minnesota requires that an EIS be prepared by OES in accordance with Chapter 216E of the Minnesota Power Plant Siting Act, and Chapter 116D of the Minnesota Environmental Policy Act. RUS and OES have agreed to be co-lead agencies in preparing a joint federal/state EIS on the Project. Using information from the Alternatives Evaluation Study (AES), the Macro-Corridor Study (MCS), Public Scoping Meetings, the Draft EIS and public hearings and comments on the Draft EIS, RUS and OES developed this Final EIS in consultation with the cooperating agencies, CNF, USACE, and LLBO.

On July 18, 2008, RUS published in the Federal Register a Notice of Intent to prepare an EIS for the proposal. The EIS focused on potential impacts to the following resources: soils, topography and geology, water resources, air quality, biological resources, the acoustic environment, recreation, cultural and historic resources, visual resources, transportation, farmland, land use, human health and safety, the socioeconomic environment, environmental justice, and cumulative effects. On March 3, 2010, the Rural Utilities Service published its Notice of Availability of the Draft EIS for the proposed project in the Federal Register. The 45-day comment period ended on April 19, 2010. Comments received on the Draft EIS were addressed in the Final EIS.

After considering various ways to meet the reliability needs, Minnkota identified construction of the proposed Project as its best course of action. This EIS considered four route alternatives in terms of cost-effectiveness, technical feasibility, and environmental factors.

The EIS analyzes in detail the no action alternative, the proposed action Route Alternative 4 and three other Route Alternatives. Route Alternative 4 has been identified as the applicants' preferred alternative, the federally preferred alternative and the environmentally preferred alternative.

Because the proposed Project may involve action in floodplains or wetlands, this Notice of Availability also serves as a notice of proposed floodplain or wetland action.

Any action by RUS related to the proposed Project will be subject to, and contingent upon, compliance with all relevant Federal, state and local environmental laws and regulations, and completion of the environmental review requirements as prescribed in RUS's Environmental Policies and Procedures, 7 CFR part 1794, as amended.

Dated: September 7, 2010.
Nivin Elgohary,
Acting Assistant Administrator, Electric Programs.

[FR Doc. 2010-22966 Filed 9-14-10; 8:45 am]

BILLING CODE P